DEPARTMENT OF ENERGY

[Docket No. EA-101-B]

Application to Export Electric Energy; Avista Corporation

AGENCY: Office of Fossil Energy, DOE.

ACTION: Notice of Application.

SUMMARY: Avista Corporation (Avista, formerly The Washington Water Power Company) has applied to amend its authority to transmit electric energy from the United States to Canada pursuant to section 202(e) of the Federal Power Act.

DATES: Comments, protests or requests to intervene must be submitted on or before December 20, 2000.

ADDRESSES: Comments, protests or requests to intervene should be addressed as follows: Office of Coal & Power Im/Ex (FE-27), Office of Fossil Energy, U.S. Department of Energy, 1000 Independence Avenue, SW, Washington, DC 20585-0350 (FAX 202-287-5736).

FOR FURTHER INFORMATION CONTACT: Rosalind Carter (Program Office) 202-586-7983 or Michael Skinker (Program Attorney) 202-586-6667.

SUPPLEMENTARY INFORMATION: Exports of electricity from the United States to a foreign country are regulated and require authorization under section 202(e) of the Federal Power Act (FPA).

On October 17, 1994, the Office of Fossil Energy (FE) of the Department of Energy (DOE) issued Order EA-101 authorizing Avista to export through Bonneville Power Administration's (BPA) Nelway, Washington, international transmission facilities (Presidential Permit PP-36) up to 100 MW of firm capacity and associated energy to West Kootenay Power, for the months of November, December, January and February. On May 12, 1995, Avista applied to DOE to amend the export authorization issued in Order EA-101 to: (1) Increase the export limit to 400 MW; (2) authorize exports for all months of the calendar year; (3) remove the expiration date; and (4) add BPA facilities authorized by Presidential Permit's PP-10 and PP-46 to the list of facilities that Avista may use for export. On October 23, 1995, FE issued the requested amendment in Order EA-101-A. On September 25, 2000, Avista filed an application with FE to amend Order EA-101-A to increase the authorized export limit from 400 MW to 1000 MW.

Procedural Matters

Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Comments on the Avista request to export to Canada should be clearly marked with Docket EA-101-B. Additional copies are to be filed directly with Mr. Robert J. Lafferty, Manager, Electric Resources, Avista Corporation, P.O. Box 3727, Spokane, Washington 99220-3727 and R. Blair Strong, Paine, Hamblen, Coffin, Brooke and Miller, 717 W. Sprague, Suite 1200, Spokane, WA 99201-3505.

A final decision will be made on this application after DOE determines whether the proposed action would impair the sufficiency of electric supply within the United States or would impede or tend to impede the coordination in the public interest of facilities as required by Section 202(e) of FPA.

DOE notes that the circumstances described in this application are virtually identical to those for which export authority had previously been granted in FE Order EA-101. Consequently, DOE believes that it has adequately satisfied its responsibilities under the National Environmental Policy Act of 1969 through the documentation of a categorical exclusion in the FE Docket EA-101-A proceeding.

Copies of this application will be made available, upon request, for public inspection and copying at the address provided above or by accessing the Fossil Energy Home Page at http://www.fe.doe.gov. Upon reaching the Fossil Energy Home page, select “Regulatory Programs,” then “Electricity Regulation,” and then “Pending Proceedings” from the options menus.

Issued in Washington, D.C., on November 14, 2000.
Anthony J. Como,
Deputy Director, Electric Power Regulation, Office of Coal & Power Im/Ex, Office of Coal & Power Systems, Office of Fossil Energy.

[FR Doc. 00-29596 Filed 11-17-00; 8:45 am]

BILLING CODE 6450-01-P